DEPARTMENT OF THE INTERIOR

National Park Service

[N6703; NPS-WASO-NAGPRA-NPS0041449; PPWOCRADN0-PCU00RP14.R50000]

Notice of Intended Repatriation: Pennsylvania Historical and Museum Commission, State Museum of Pennsylvania, Harrisburg, PA

AGENCY: National Park Service, Interior.

ACTION: Notice.

SUMMARY: In accordance with the Native American Graves Protection and Repatriation Act (NAGPRA), the Pennsylvania Historical and Museum Commission, State Museum of Pennsylvania intends to repatriate certain cultural items that meet the definition of sacred objects and that have a cultural affiliation with the Indian Tribes or Native Hawaiian organizations in this notice.

DATES: Repatriation of the cultural items in this notice may occur on or after January 20, 2026.

ADDRESSES: Send additional, written requests for repatriation of the cultural items in this notice to Barbara Frederick, The State Museum of Pennsylvania, 300 North Street, Harrisburg, PA 17120, email bafrederic@pa.gov.

SUPPLEMENTARY INFORMATION: This notice is published as part of the National Park Service's administrative responsibilities under NAGPRA. The determinations in this notice are the sole responsibility of the State Museum of Pennsylvania, and additional information on the determinations in this notice, including the results of consultation, can be found in the summary or related records. The National Park Service is not responsible for the determinations in this notice.

Abstract of Information Available

A total of two lots of cultural items have been requested for repatriation. The two lots of sacred objects are beads and marbles. Both lots are from the Big Cove Community, located on present day Qualla Boundary, one lot consists of marbles, and the second lot consists of beads having belonged to Will West Long, a known Eastern Band of Cherokee Indians (EBCI) tribal member. Both lots were received by The State Museum of Pennsylvania in the 1940's. Museum records do not indicate the presence of potentially hazardous substances used to treat any of the cultural items.

Determinations

The State Museum of Pennsylvania has determined that:

• The two lots of sacred objects described in this notice are specific ceremonial objects needed by a traditional Native American religious leader for present-day adherents to practice traditional Native American religion, according to the Native American traditional knowledge of a lineal descendant, Indian Tribe, or Native Hawaiian organization.

• There is a connection between the cultural items described in this notice and the Eastern Band of Cherokee Indians.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the State Museum of Pennsylvania must determine the most appropriate requestor prior to repatriation. Requests for joint repatriation of the cultural items are considered a single request and not competing requests. The State Museum of Pennsylvania is responsible for sending a copy of this notice to the Indian Tribes and Native Hawaiian organizations identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-23153 Filed 12-17-25; 8:45 am]

BILLING CODE 4312-52-P